DEPARTMENT OF DEFENSE

Department of the Army; Corps of Engineers

Availability of a Draft Environmental Impact Statement To Consider Issuance of a Department of the Army Permit Pursuant to Section 404 of the Clean Water Act for the Angelina & Neches River Authority's Proposal to Construct Lake Columbia, a Proposed 10,133-Surface-Acre Water Supply Reservoir in Cherokee and Smith Counties, TX

AGENCY: Department of the Army, U.S. Army Corps of Engineers, DoD.

ACTION: Notice of availability.

SUMMARY: In accordance with the requirements of the National Environmental Policy Act (NEPA), the U.S. Army Corps of Engineers (USACE) Fort Worth District has prepared a Draft Environmental Impact Statement (DEIS). This DEIS evaluates potential impacts to the natural, physical and human environment as a result of the Angelina & Neches River Authority's proposal to construct Lake Columbia. The USACE regulates this proposed project pursuant to Section 404 of the Clean Water Act. The proposed activity would involve the discharge of dredged and fill material into waters of the United States associated with the proposed construction of Lake Columbia.

DATES: Submit comments by March 30, 2010. An informal public information meeting (open house format) regarding this DEIS will be held on March 1, 2010, and a formal public hearing regarding this DEIS will be held on March 2, 2010 (see SUPPLEMENTARY INFORMATION).

ADDRESSES: Send written comments and suggestions concerning this proposal to Mr. Brent Jasper, Regulatory Project Manager, Regulatory Branch, CESWF-PER-R, U.S. Army Corps of Engineers, Fort Worth District, P.O. Box 17300, Fort Worth, TX 76102-0300 or via e-mail: Brent.J.Jasper@usace.army.mil. Requests to be placed on the mailing list should also be sent to this address.

FOR FURTHER INFORMATION CONTACT: Mr. Brent Jasper, Regulatory Project Manager at (817) 886-1733 or via e-mail: Brent.J.Jasper@usace.army.mil.

SUPPLEMENTARY INFORMATION: Discharges of fill material into waters of the United States are regulated under Section 404 of the Clean Water Act, with the permitting responsibility administered by the USACE. The proposed project must also address environmental impacts relative to the Clean Air Act, Clean Water Act, Endangered Species Act and the Fish and Wildlife Coordination Act (FWCA). In accordance with the NEPA, the DEIS evaluates practicable alternatives for the USACE's decision making process. As required by NEPA, the USACE also analyzes the “no action” alternative as a baseline for gauging potential impacts.

As part of the public involvement process, notice is hereby given by the USACE Fort Worth District of an informal public information meeting (open house format) to be held at the Norman Activity Center, 526 East Commerce Street, Jacksonville, TX, from 5 to 7:30 p.m. on March 1, 2010. This meeting will afford interested parties the opportunity to engage in a dialog with the USACE regarding the EIS process and the analyses performed to date. The USACE Fort Worth District will also be holding a formal public hearing to be held at the Norman Activity Center, 526 East Commerce Street, Jacksonville, TX, from 5 to 7:30 p.m. on March 2, 2010. The public hearing will allow participants the opportunity to comment on the DEIS prepared for the proposed Lake Columbia. Written comments should be sent to Mr. Brent Jasper (see ADDRESSES). The comments are due no later than 60 days from the date of publication of this notice. Copies of the DEIS may be obtained by contacting USACE Fort Worth District Regulatory Branch at (817) 886-1731 or printed from the Fort Worth District USACE internet home page at http://www.swf.usace.army.mil.

Copies of the DEIS are also available for inspection at the locations identified below:

(1) Jacksonville Public Library, 502 South Jackson St., Jacksonville, TX 76766.

(2) Kurth Memorial Library, 706 South Raguet St., Lufkin, TX 75904.

(3) Nacogdoches Public Library, 1112 North Street, Nacogdoches, TX 75961.

(4) Rusk County Library, 106 East Main St., Henderson, TX 75652.

(5) Tyler Public Library, 201 South College Avenue, Tyler, TX 75702.

(6) Henderson City Hall, 400 West Main Street, Henderson, TX 75652.

(7) Jacksonville City Hall, 301 East Commerce Street, Jacksonville, TX 75766.

(8) Lufkin City Hall, 300 East Shepherd Avenue, Lufkin, TX 75901.

(9) Nacogdoches City Hall, 202 East Pilar Street, Nacogdoches, TX 75961.

(10) Rusk City Hall, 205 South Main St., Rusk, TX 75785.

(11) Tyler City Hall, 212 North Bonner Avenue, Tyler, TX 75702.

After the public comment period ends, the USACE will consider all comments received, revise the DEIS as appropriate, and issue a Final Environmental Impact Statement.

Stephen L Brooks,
Chief, Regulatory Branch.

[FR Doc. 2010-1820 Filed 1-28-10; 8:45 am]

BILLING CODE 3720-58-P